DEPARTMENT OF JUSTICE

Notice of Lodging of Consent Decree Under the Comprehensive Environmental Response, Compensation, and Liability Act

Notice is hereby given that on May 11, 2011, a proposed Consent Decree (the “Decree”) in United States v. SB Building Associates, Limited Partnership, SB Building GP, L.L.C., United States Land Resources, L.P., and United States Realty Resources, Inc., and 7.04 Acres of Land, More or Less, located within Block 58, Lot 1.03 of 2 through 130 Ford Avenue, Milltown, Middlesex County, New Jersey, Civil Action No. 3:08-cv-05298 (AET/LHG), was lodged with the United States District Court for the District of New Jersey.

The Decree resolves the United States' claims against the Defendants under Sections 106 and 107 of the Comprehensive Environmental Response, Compensation and Liability Act of 1980, 42 U.S.C. 9606 and 9607, as amended. Under the terms of the settlement, the United States will recover $300,000 for both past response costs incurred in a removal action at the Algro Knitting Mills Superfund Site in Milltown, Middlesex County, New Jersey, and stipulated penalties for Defendant SB Building, Limited Partnership's failure to comply with an administrative order on consent with respect to the Site.

The Department of Justice will receive comments relating to the Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States v. SB Building Associates, Limited Partnership et al., D.J. Ref. 90-11-3-09425.

During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.25 (25 cents per page reproduction cost) payable to the U.S. Treasury or, if by e-mail or fax, forward a check in that amount to the Consent Decree Library at the stated address.

Maureen Katz,
Assistant Section Chief, Environmental Enforcement Section, Environment and Natural Resources Division.

[FR Doc. 2011-11989 Filed 5-16-11; 8:45 am]

BILLING CODE 4410-15-P